ENVIRONMENTAL PROTECTION AGENCY

40 CFR Parts 51 and 52

[AD-FRL-7456-3]

Prevention of Significant Deterioration (PSD) and Nonattainment New Source Review (NSR): Routine Maintenance, Repair and Replacement

AGENCY: Environmental Protection Agency (EPA).

ACTION: Proposed rulemaking; extension of comment period.

SUMMARY: The EPA is hereby extending for 60 days the public comment period regarding the December 31, 2002 proposal proposing revisions to the regulations governing the NSR programs mandated by parts C and D of title I of the Clean Air Act (CAA). See 67 FR 80290. The proposed changes provide a future category of activities that would be considered to be routine maintenance, repair and replacement (RMRR) under the NSR program. The changes are intended to provide greater regulatory certainty without sacrificing the current level of environmental protection and benefit derived from the program. We believe that those changes will facilitate the safe, efficient, and reliable operation of affected facilities.

DATES: Comments. Comments must be received on or before May 2, 2003.

ADDRESSES: Comments. Comments may be submitted by mail (two copies) to U.S. Environmental Protection Agency, EPA West (Air Docket), 1200 Pennsylvania Avenue, Northwest, Room B108, Mail Code: 6102T, Washington, DC 20406, Attention Docket ID No. A-1002-04.

Comments may also be submitted electronically, by facsimile, or through hand delivery/courier. Follow the detailed instructions as provided in the SUPPLEMENTARY INFORMATION section.

FOR FURTHER INFORMATION CONTACT: Dave Svendsgaard at (919) 541-2380, telefax (919)541-5509, E-mail: svendsgaard.dave@epa.gov or by mail at U.S. Environmental Protection Agency, OAQPS, Information Transfer and Program Integration Division, (C339-03), Research Triangle Park, North Carolina 27711.

SUPPLEMENTARY INFORMATION: Comments: This document extends the public comment period established in the Federal Register issued on December 31, 2002 ( 67 FR 80290). In that document, EPA proposed revisions to the regulations governing the NSR programs mandated by parts C and D of title I of the Clean Air Act (CAA). EPA is hereby extending the comment period, which was set to end on March 3, 2003, to May 2, 2003.

You may submit comments electronically, by mail, by facsimile, or through hand delivery/courier. To ensure proper receipt by EPA, identify the appropriate docket identification number in the subject line on the first page of your comment. Please ensure that your comments are submitted within the specified comment period. Comments received after the close of the comment period will be marked “late.” EPA is not required to consider these late comments. If you wish to submit CBI or information that is otherwise protected by statute, please follow the instructions in section I.D. Do not use EPA Dockets or e-mail to submit CBI or information protected by statute.

1. Electronically. If you submit an electronic comment as prescribed below, EPA recommends that you include your name, mailing address, and an e-mail address or other contact information in the body of your comment. Also include this contact information on the outside of any disk or CD ROM you submit, and in any cover letter accompanying the disk or CD ROM. This ensures that you can be identified as the submitter of the comment and allows EPA to contact you in case EPA cannot read your comment due to technical difficulties or needs further information on the substance of your comment. EPA's policy is that EPA will not edit your comment, and any identifying or contact information provided in the body of a comment will be included as part of the comment that is placed in the official public docket, and made available in EPA's electronic public docket. If EPA cannot read your comment due to technical difficulties and cannot contact you for clarification, EPA may not be able to consider your comment.

a. EPA Dockets. Your use of EPA's electronic public docket to submit comments to EPA electronically is EPA's preferred method for receiving comments. Go directly to EPA Dockets at http://www.epa.gov/edocket, and follow the online instructions for submitting comments. To access EPA's electronic public docket from the EPA Internet Home Page, select “Information Sources,” “Dockets,” and “EPA Dockets.” Once in the system, select “search,” and then key in Docket ID No. A-2002-04. The system is an “anonymous access” system, which means EPA will not know your identity, e-mail address, or other contact information unless you provide it in the body of your comment.

b. E-mail. Comments may also be sent by electronic mail (e-mail) to A-and-R-Docket@epamail.epa.gov, Attention Docket ID No. A-2002-04. In contrast to EPA's electronic public docket, EPA's email system is not an “anonymous access” system. If you send an e-mail comment directly to the Docket without going through EPA's electronic public docket, EPA's e-mail system automatically captures your e-mail address. E-mail addresses that are automatically captured by EPA's e-mail system are included as part of the comment that is placed in the official public docket, and made available in EPA's electronic public docket.

c. Disk or CD ROM. You may also submit comments on a disk or CD ROM that you mail to the mailing address identified in section 2. These electronic submissions will be accepted in WordPerfect or ASCII file format. Avoid the use of special characters and any form of encryption.

2. By Mail. Send two copies of your comments to: U.S. Environmental Protection Agency, EPA West (Air Docket), 1200 Pennsylvania Ave., NW., Room: B108, Mail code: 6102T, Washington, DC 20460, Attention Docket ID No. A-2002-04.

3. By Hand Delivery or Courier. Deliver your comments to: EPA Docket Center, (Air Docket), U.S. Environmental Protection Agency, 1301 Constitution Ave., NW., Room: B108, Mail Code: 6102T, Washington, DC 20004. Attention Docket ID No. A-2002-04. The EPA Docket Center Public Reading Room is open from 8:30 a.m. to 4:30 p.m., Monday through Friday, excluding legal holidays. The telephone number for the Reading Room is (202) 566-1742. A reasonable fee may be charged for copying.

4. By Facsimile. Fax your comments to the EPA Docket Center at (202) 566-1741, Attention Docket ID. No. A-2002-04.

Dated: February 21, 2003.
Stephen D. Page,
Director, Office of Air Quality Planning and Standards.

[FR Doc. 03-4769 Filed 2-27-03; 8:45 am]

BILLING CODE 6560-50-P